NATIONAL AERONAUTICS AND SPACE ADMINISTRATION

48 CFR Part 1825

RIN 2700-AC33

Trade Agreements Act—Exception for U.S.-Made End Products

AGENCY: National Aeronautics and Space Administration.

ACTION: Proposed rule.

SUMMARY: NASA is proposing to amend the NASA FAR Supplement (NFS) to implement the determination of the Assistant Administrator for Procurement that, for procurements subject to the Trade Agreements Act, it would be inconsistent with the public interest to apply the Buy American Act for U.S.-made end products that are substantially transformed in the United States.

DATES: Comments should be submitted on or before January 13, 2003.

ADDRESSES: Interested parties should submit written comments to Patrick Flynn, NASA Headquarters, Office of Procurement, Contract Management Division (Code HK), Washington, DC 20546. Comments may also be submitted by e-mail to pflynn@hq.nasa.gov.

FOR FURTHER INFORMATION CONTACT: Patrick Flynn, (202) 358-0460; e-mail: pflynn@hq.nasa.gov.

SUPPLEMENTARY INFORMATION:

A. Background

On September 13, 2002, the Assistant Administrator for Procurement determined that, for procurements subject to the Trade Agreements Act, it would be inconsistent with the public interest to apply the Buy American Act to U.S.-made end products that are substantially transformed in the United Sates. The September 13, 2002, determination is consistent with Federal Acquisition Regulation policy and the Department of Defense policy with regard to the treatment of U.S.-made end products.

This proposed rule implements the September 13, 2002, determination. This proposed rule will simplify evaluation of offers in acquisitions subject to the Trade Agreements Act, because it will no longer be necessary to determine if a U.S.-made end product is also a domestic end product, i.e., the cost of domestic components exceeds the cost of all components by more than 50 percent.

This proposed rule is not subject to Office of Management and Budget review under Executive Order 12866, dated September 30, 1993.

B. Regulatory Flexibility Act

This proposed rule is not expected to have a significant economic impact on a substantial number of small entities with the meaning of the Regulatory Flexibility Act, 5 U.S.C. 601, et seq., because NASA has few acquisitions subject to the Trade Agreements Act in which small businesses proposing domestic end products have received a percent price evaluation preference over offers of U.S.-made end products for which the cost of foreign components exceeds the cost of domestic components by 50 percent or more.

C. Paperwork Reduction Act

The Paperwork Reduction Act does not apply because the changes do not impose any new recordkeeping or information collection requirements which require the approval of the Office of Management and Budget under 44 U.S.C. 3501, et seq. This proposed rule would eliminate the requirement for offerors to track and document the origin of components of U.S.-made end products in acquisitions subject to the Trade Agreements Act in order to comply with the FAR.

List of Subjects in 48 CFR Part 1825

Government procurement.

Tom Luedtke,
Assistant Administrator for Procurement.

Accordingly, 48 CFR part 1825 is amended as follows:

1. The authority citation for 48 CFR Part 1825 continues to read as follows:

Authority: 42 U.S.C. 2473(c)(1)

PART 1825—FOREIGN ACQUISITION

1825.103 [Amended]

2. Amend section 1825.103 by adding paragraph (a)(iii) to read as follows:

1825.103 Exceptions.

(a) * * *

(iii) The Assistant Administrator for Procurement has determined that for procurements subject to the Trade Agreements Act, it would be inconsistent with the public interest to apply the Buy American Act to U.S.-made end products that are substantially transformed in the United States.

1825.1101 [Amended] (NASA supplements paragraph (c)(1))

3. Amend section 1825.1101 by adding paragraph (c)(1) to read as follows:

1825.1101 Acquisition of supplies.

(c)(1) NASA has determined that the restrictions of the Buy American Act are not applicable to U.S.-made end products.

* * * * *

[FR Doc. 02-28542 Filed 11-8-02; 8:45 am]

BILLING CODE 7510-01-P